Executive Order 14137 of January 3, 2025

Providing an Order of Succession Within the Department of the Treasury

By the authority vested in me as President by the Constitution and the laws of the United States of America, including the Federal Vacancies Reform Act of 1998, as amended, 5 U.S.C. 3345 et seq. (the “Act”), it is hereby ordered that:

Section 1. Order of Succession. Subject to the provisions of section 2 of this order, and to the limitations set forth in the Act, the following officials of the Department of the Treasury, in the order listed, shall act as and perform the functions and duties of the office of Secretary of the Treasury (Secretary) during any period in which both the Secretary and the Deputy Secretary of the Treasury have died, resigned, or otherwise become unable to perform the functions and duties of the office of Secretary:

(a) Any Under Secretary of the Treasury, in order of seniority based on date of appointment to such position;

(b) General Counsel for the Department of the Treasury;

(c) Any Deputy Under Secretary of the Treasury or any Assistant Secretary of the Treasury appointed by the President by and with the consent of the Senate, in order of seniority based on date of appointment to such position;

(d) Chief of Staff;

(e) Assistant Secretary of the Treasury for Management;

(f) Fiscal Assistant Secretary;

(g) Commissioner of Internal Revenue, Internal Revenue Service;

(h) Commissioner, Bureau of the Fiscal Service;

(i) Deputy Commissioner, Financing and Operations, Bureau of the Fiscal Service; and

(j) Deputy Commissioner, Internal Revenue Service.

Sec. 2. Exceptions. (a) No individual who is serving in an office listed in section 1(a)-(j) of this order in an acting capacity shall, by virtue of so serving, act as Secretary pursuant to this order.

(b) No individual who is serving in an office listed in section 1(a)-(j) of this order shall act as Secretary unless that individual is otherwise eligible to so serve under the Act.

(c) Notwithstanding the provisions of this order, the President retains discretion, to the extent permitted by law, to depart from this order in designating an acting Secretary.

Sec. 3. Revocation. Executive Order 13735 of August 12, 2016 (Providing an Order of Succession Within the Department of the Treasury), is hereby revoked.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 3, 2025.

[FR Doc. 2025-00618

Filed 1-10-25; 8:45 am]

Billing code 3395-F4-P